DEPARTMENT OF COMMERCE

National Oceanic and Atmospheric Administration

Agency Information Collection Activities; Submission to the Office of Management and Budget (OMB) for Review and Approval; Comment Request; Licensing of Private Remote-Sensing Space Systems

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on February 8, 2022 and February 18, 2022 (correction) during a 60-day comment period. This notice allows for an additional 30 days for public comments.

Agency: National Oceanic & Atmospheric Administration (NOAA), Commerce.

Title: Licensing of Private Remote-Sensing Space Systems.

OMB Control Number: 0648-0174.

Form Number(s): None.

Type of Request: Regular (revision and extension of a current information collection).

Number of Respondents: 100.

Average Hours per Response: 15 hours for the submission of a license application; 1 hour each for the submission of a license amendment, notification of disposal of on-orbit component, notification of detection of anomaly, and notification of financial insolvency or dissolution; 2 hours each for notification of launch or deployment of spacecraft and the annual compliance certification; 20 minutes for the Initial Contact Form; 10 minutes for the Data Availability Notification; and 15 minutes for the Licensee Notification Form.

Total Annual Burden Hours: 388.

Needs and Uses: This is a request for revision and extension of an approved information collection.

The Department of Commerce (DOC), through the National Oceanic and Atmospheric Administration (NOAA) Commercial Remote Sensing Regulatory Affairs (CRSRA), has the authority to regulate private space-based remote sensing under the Land Remote Sensing Policy Act of 1992, 51 U.S.C. 60101 et seq. (the Act) and regulations at 15 CFR part 960. The regulations facilitate the development of the U.S. private remote sensing industry and thus promote the collection and widespread availability of remote sensing data, while preserving essential U.S. national security interests and observing international obligations.

Applications are made in response to the requirements in the Act, as amended, and NOAA sends applicants an Application Guide, which walks the applicant through the application questions and criteria listed in Appendix A to 15 CFR part 960. The application information received is used to determine if the applicant meets the legal criteria for issuance of a license to operate a private remote sensing space system, i.e., the proposed system will be operated in accordance with the Act, U.S. national security concerns and international obligations. Application information includes information about the applicant (such as corporate information), the launch dates of any components going to space, and technical specifications of all components (especially the components in space that are capable of collecting imagery data).

If a licensee wishes to modify its license, either to reflect changes in its business practices or technical changes to its system, or to request different license conditions, it may submit such a request to CRSRA and explain why the change is sought. CRSRA needs this information to be able to keep licenses accurate and to respond to the regulated community's needs.

Licensees are required to notify CRSRA when a spacecraft launches or deploys; upon disposal of an on-orbit component of the licensed system; upon detection of an anomaly; and upon the licensee's financial insolvency or dissolution. This information is critical to fulfilling one of the United States' key international obligations, which is to authorize and continually supervise U.S. nationals' activities in space. CRSRA, therefore, must be notified when spacecraft are deployed and disposed of so that CRSRA can supervise the space activities of U.S. nationals. Similarly, anomalies may indicate loss of control of a spacecraft, so CRSRA must monitor any anomalies to meaningfully supervise the activities of U.S. nationals in space. Finally, the financial insolvency or dissolution of a licensee may indicate that a change in control of the spacecraft will follow, because an insolvent licensee may go through a bankruptcy process that might put the licensed system's ownership in question. It is critical that CRSRA be able to intervene as early as possible in this process so that a sensitive system does not pass into the ownership of an entity who might jeopardize national security or international obligations.

CRSRA will require licensees to submit an annual compliance certification, which requires the licensee to verify that all facts in the license remain true. Facts that must be verified in this certification include the technical specifications of the system and other foundational facts that CRSRA relies upon in reviewing license applications. This information is critical to ensuring that only those entities who are legally fit to obtain a license do so.

NOAA is proposing to add three additional forms to this information collection. The optional information is being collected to reduce the total paperwork required to support regulation of the private space-based remote sensing industry, which involves (1) determining whether an applicant is required to apply for a license; (2) comparing the capabilities of remote sensing systems to other foreign and domestic remote sensing systems; and (3) recording important events in the lifecycle of licensed systems.

The optional Initial Contact Form (ICF) information includes contact information and general remote sensing system information. The ICF may be submitted electronically through the NOAA website prior to the submission of a full application. The ICF information received is used to determine if the applicant is required to submit a full application for the issuance of a license to operate a private remote sensing space system i.e., the proposed system falls under the authority defined in the Act and the regulations. If NOAA determines after reviewing the ICF that an application is not required, the potential applicant will save 40-50 hours of paperwork by not submitting the application. Additionally, the ICF gives NOAA the opportunity to provide early feedback and guidance on an application package, lowering the likelihood of time-consuming rewrites and edits to an application before it can be deemed complete. Therefore, the ICF can save significant time for industry and private entities, as well as government time.

The optional Data Availability Notification (DAN) information includes contact information and general data availability information. The DAN may be submitted electronically through the NOAA website during the application process, while an applicant holds a license, or by any interested party. The DAN information received is used to help determine the availability of unenhanced data from a foreign or domestic remote sensing system, which may then be compared to unenhanced data produced by an applicant's system for the purpose of adjusting the conditions and/or restrictions in a license. The DAN form ensures that only required information is submitted, thereby reducing unnecessary paperwork and/or follow-up correspondence.

The optional Licensee Notification Form (LNF) information is not a new information collection, but is instead an optional form that streamlines the reporting of the four Notifications described above. The LNF form includes contact information and the option to report one of four types of events, including (1) the launch or deployment of a system component; (2) the disposal of a system component; (3) the detection of an anomaly in a system; and (4) the financial insolvency of the licensee. The existing IC already allows for the collection of this information, the collection of which is required by statute and regulations. The LNF will ease the burden on licensees when reporting this already-required information. The LNF may be submitted electronically through the NOAA website throughout the term of a license. The LNF information received is used to record events in the lifecycle of the system and to help determine if modifications to a license are required. The LNF ensures that only required information is submitted, thereby reducing unnecessary paperwork and/or follow-up correspondence.

Affected Public: Business or other for-profit organizations.

Frequency: Once per year.

Respondent's Obligation: Voluntary.

Legal Authority: Land Remote Sensing Policy Act of 1992, 51 U.S.C. 60101 et seq; and 15 CFR part 960—Licensing of Private Remote Sensing Space Systems.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0174.

Sheleen Dumas,
Department PRA Clearance Officer, Office of the Chief Information Officer, Commerce Department.

[FR Doc. 2022-10586 Filed 5-16-22; 8:45 am]

BILLING CODE 3510-HR-P